ENVIRONMENTAL PROTECTION AGENCY

[ER-FRL-8989-8]

Environmental Impacts Statements; Notice of Availability

Responsible Agency: Office of Federal Activities, General Information (202) 564-1399 or http://www.epa.gov/compliance/nepa/.

Weekly receipt of Environmental Impact Statements Filed 04/05/2010 Through 04/09/2010 Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100121, Draft EIS, DOI, CA,Stanford University Habitat Conservation Plan, Authorization for Incidental Take and Implementation, San Mateo and Santa Clara Counties, CA, Comment Period Ends: 07/15/2010, Contact: Gary Stern, 707-575-6060.

EIS No. 20100122, Final EIS, USFS, 00,Black Hills National Forest Travel Management Plan, Proposes to Designate Certain Roads and Trails Open to Motorized Travel, Custer, Fall River, Lawrence, Meade, Pennington Counties, SD and Crook and Weston Counties, WY, Wait Period Ends: 05/17/2010, Contact: Thomas Willems, 605-673-9217.

EIS No. 20100123, Final EIS, FHWA, TX,US 290 Corridor, Propose to Construct Roadway Improvements from Farm-to-Market (FM) 2920 to Interstate Highway (IH) 610, Funding and Right-of-Way Grant, Harris County, TX, Wait Period Ends: 05/17/2010, Contact: Daniel Mott, 512-536-5964.

EIS No. 20100124, Final EIS, NPS, CA,Prisoners Harbor Coastal Wetland Restoration Project, Proposes to Restore a Functional, Self-Sustaining Ecosystem at a Coastal Wetland Site, Channel Islands National Park, Santa Cruz Island, Santa Barbara County, CA, Wait Period Ends: 05/17/2010, Contact: Paula Power, 805-658-5784.

EIS No. 20100125, Final EIS, BLM, 00,UNEV Pipeline Project, Construction of a 399-mile Long Main Petroleum Products Pipeline, Salt Lake, Tooele, Juab, Millard, Iron, and Washington Counties, UT and Lincoln and Clark Counties, NV, Wait Period Ends: 05/17/2010, Contact: Joe Incardine, 801-524-3833.

EIS No. 20100126, Draft EIS, DOS, 00,Keystone XL Oil Pipeline Project, Presidential Permit for the Proposed Construction, Connection, Operation, and Maintenance of a Pipeline and Associated Facilities at United State border for Importation of Crude Oil from Canada, Comment Period Ends: 06/01/2010, Contact: Elizabeth Orlando, 202-647-4284.

EIS No. 20100127, Final EIS, BIA, MT,Kerr Hydroelectric Project, Proposed Drought Management Plan, Implementation, Flathead Lake, MT, Wait Period Ends: 05/17/2010, Contact: Bob Dach, 503-231-6711.

EIS No. 20100128, Final EIS, USFS, SD,Norbeck Wildlife Project, Proposing to Manage Vegetation to Benefit Game Animals and Birds, Black Hills National Forest, Custer and Pennington Counties, SD, Wait Period Ends: 05/17/2010, Contact: Kelly Honors, 605-673-4853.

EIS No. 20100129, Draft EIS, BLM, NV,Silver State Solar Energy Project, Construct and Operate a 400-megawatt Photovoltaic Solar Plant and Associated Facilities on Public Lands, Application Right-of-Way Grant, Primm, Clark County, NV, Comment Period Ends: 06/01/2010, Contact: Gregory Helseth, 702-515-5173.

EIS No. 20100130, Final EIS, DOT, CA,Silicon Valley Rapid Transit Corridor Project, Proposes to Construct an Extension of the Bay Area Rapid Transit (BART) Rail System from Warm Spring Station in Fremont to Santa Clara County, CA, Wait Period Ends: 05/17/2010, Contact: Eric Eidlin, 415-744-2502.

EIS No. 20100131, Final EIS, EPA, GU,Apra Harbor, Guam, Proposed Site Designation of an Ocean Dredged Material Disposal Site Offshore of Guam, Wait Period Ends: 05/17/2010, Contact: Allan Ota, 415-972-3476.

EIS No. 20100132, Draft Supplement, BLM, CA,Ivanpah Solar Electric Generating System (07-AFC-5) Project, Proposal to Construct a 400-Megawatts Concentrated Solar Power Tower, Thermal-Electric Power Plant, San Bernardino County, CA, Comment Period Ends: 06/01/2010, Contact: Tom Hurshman, 970-240-5345.

Dated: April 13, 2010.
Robert W. Hargrove,
Director, NEPA Compliance Division, Office of Federal Activities.

[FR Doc. 2010-8762 Filed 4-15-10; 8:45 am]

BILLING CODE 6560-50-P